DEPARTMENT OF ENERGY

Federal Energy Regulatory Commission

Notice of Effectiveness of Exempt Wholesale Generator Status

| Docket No.
Pavant Solar, LLC | EG15-115-000
Campbell County Wind Farm, LLC | EG16-15-000
OCI Alamo 6 LLC | EG16-16-000
OCI Alamo 7 LLC | EG16-17-000
OCI Solar TRE LLC | EG16-18-000
BIF III Holtwood LLC | EG16-19-000
Black Oak Wind, LLC | EG16-20-000
Central Antelope Dry Ranch C LLC | EG16-21-000
Shelby County Energy Center, LLC | EG16-22-000
Golden Hills Interconnection, LLC | EG16-23-000
Blythe Solar 110, LLC | EG16-24-000
NextEra Blythe Solar Energy Center, LLC | EG16-25-000

Take notice that during the months of November 2015 and January 2016, the status of the above-captioned entities as Exempt Wholesale Generators became effective by operation of the Commission's regulations. 18 CFR 366.7(a).

Dated: February 22, 2016.
Nathaniel J. Davis, Sr.,
Deputy Secretary.

[FR Doc. 2016-04151 Filed 2-25-16; 8:45 am]

BILLING CODE 6717-01-P